DEPARTMENT OF ENERGY

Federal Energy Regulatory Commission

Combined Notice of Filings

Take notice that the Commission has received the following Natural Gas Pipeline Rate and Refund Report filings:

Filings Instituting Proceedings

Docket Numbers: PR13-65-000.

Applicants: Lobo Pipeline Company L.P.

Description: NGPA Section 311 Periodic Rate Review Certification for service 284.123(b)(1).

Filed Date: 9/30/2013.

Accession Number: 20130930-5270.

Comments Due: 5 p.m. ET 10/21/13.

Docket Numbers: PR14-1-000.

Applicants: ONEOK Field Services Company, L.L.C.

Description: Tariff filing per 284.123(b)(2): Rate Petition to be effective 10/1/2013.

Filed Date: 10/1/2013.

Accession Number: 20131001-5279.

Comments Due: 5 p.m. ET 10/22/13.

Docket Numbers: RP14-5-000.

Applicants: WBI Energy Transmission, Inc.

Description: Annual Report of Penalty Revenue Credits.

Filed Date: 10/1/13.

Accession Number: 20131001-5056.

Comments Due: 5 p.m. ET 10/15/13.

Docket Numbers: RP14-6-000.

Applicants: Viking Gas Transmission Company.

Description: Conforming Backhaul Agreement.

Filed Date: 10/1/13.

Accession Number: 20131001-5067.

Comments Due: 5 p.m. ET 10/15/13.

Docket Numbers: RP14-7-000.

Applicants: Trunkline Gas Company, LLC.

Description: Annual Report of Flow Through filed 10-1-13.

Filed Date: 10/1/13.

Accession Number: 20131001-5071.

Comments Due: 5 p.m. ET 10/15/13.

Docket Numbers: RP14-8-000.

Applicants: Panhandle Eastern Pipe Line Company, LP.

Description: Fuel Filing on 10-1-13 to be effective 11/1/2013.

Filed Date: 10/1/13.

Accession Number: 20131001-5095.

Comments Due: 5 p.m. ET 10/15/13.

Docket Numbers: RP14-9-000.

Applicants: Transcontinental Gas Pipe Line Company.

Description: LNG Fuel Tracker Filing 2013 to be effective 11/1/2013.

Filed Date: 10/1/13.

Accession Number: 20131001-5096.

Comments Due: 5 p.m. ET 10/15/13.

Docket Numbers: RP14-10-000.

Applicants: Trunkline Gas Company, LLC.

Description: Fuel Filing on 10-1-2013 to be effective 11/1/2013.

Filed Date: 10/1/13.

Accession Number: 20131001-5097.

Comments Due: 5 p.m. ET 10/15/13.

Docket Numbers: RP14-11-000.

Applicants: Southwest Gas Storage Company.

Description: Fuel Filing on 10-1-13 to be effective 11/1/2013.

Filed Date: 10/1/13.

Accession Number: 20131001-5098.

Comments Due: 5 p.m. ET 10/15/13.

Docket Numbers: RP14-12-000.

Applicants: Natural Gas Pipeline Company of America.

Description: Penalty Revenue Crediting Report.

Filed Date: 10/1/13.

Accession Number: 20131001-5118.

Comments Due: 5 p.m. ET 10/15/13.

Docket Numbers: RP14-13-000.

Applicants: Carolina Gas Transmission Corporation.

Description: 2013 FRQ & TDA Filing to be effective 11/1/2013.

Filed Date: 10/1/13.

Accession Number: 20131001-5129.

Comments Due: 5 p.m. ET 10/15/13.

Docket Numbers: RP14-14-000.

Applicants: Tennessee Gas Pipeline Company, L.L.C.

Description: Volume No. 2—MPP Project to be effective 11/1/2013.

Filed Date: 10/1/13.

Accession Number: 20131001-5149.

Comments Due: 5 p.m. ET 10/15/13.

Docket Numbers: RP14-15-000.

Applicants: Texas Gas Transmission, LLC.

Description: 2013 Fuel Tracker Filing to be effective 11/1/2013.

Filed Date: 10/1/13.

Accession Number: 20131001-5193.

Comments Due: 5 p.m. ET 10/15/13.

Docket Numbers: RP14-16-000.

Applicants: Pine Prairie Energy Center, LLC.

Description: PNPIS Service Cancellation to be effective 11/1/2013.

Filed Date: 10/1/13.

Accession Number: 20131001-5199.

Comments Due: 5 p.m. ET 10/15/13.

Docket Numbers: RP14-17-000.

Applicants: American Midstream (AlaTenn), LLC.

Description: AlaTenn Non-Conforming Agreements to be effective 10/1/2013.

Filed Date: 10/1/13.

Accession Number: 20131001-5237.

Comments Due: 5 p.m. ET 10/15/13.

Docket Numbers: RP14-18-000.

Applicants: Tennessee Gas Pipeline Company, L.L.C.

Description: Volume No. 2—Statoil Natural Gas LLC to be effective 11/1/2013.

Filed Date: 10/1/13.

Accession Number: 20131001-5255.

Comments Due: 5 p.m. ET 10/15/13.

Docket Numbers: RP14-19-000.

Applicants: Columbia Gas Transmission, LLC.

Description: Petition of Columbia Gas Transmission for Limited Waiver of Contract and Tariff Provisions.

Filed Date: 10/2/13.

Accession Number: 20131002-5005.

Comments Due: 5 p.m. ET 10/9/13.

Docket Numbers: RP14-20-000.

Applicants: Transcontinental Gas Pipe Line Company.

Description: Update List of Non-Conforming Service Agreements (NESL) to be effective 11/1/2013.

Filed Date: 10/2/13.

Accession Number: 20131002-5069.

Comments Due: 5 p.m. ET 10/15/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 3, 2013.
Nathaniel J. Davis, Sr.,
Deputy Secretary.

[FR Doc. 2013-24446 Filed 10-10-13; 8:45 am]

BILLING CODE 6717-01-P